DEPARTMENT OF HOMELAND SECURITY

Coast Guard

33 CFR Part 165

[CGD13-07-012]

RIN 1625-AA00

Safety Zone; Florence Rhodie Days Fireworks Display, Siuslaw River, Florence, OR

AGENCY: Coast Guard, DHS.

ACTION: Temporary final rule.

SUMMARY: The Coast Guard is establishing a temporary safety zone on the waters of the Siuslaw River during a fireworks display. The Captain of the Port, Portland, Oregon is taking this action to safeguard watercraft and their occupants from safety hazards associated with this display. Entry into this safety zone is prohibited unless authorized by the Captain of the Port.

DATES: This rule is effective on May 9, 2007 from 8:30 p.m. until 11:30 p.m. (PDT).

ADDRESSES: Documents indicated in this preamble as being available in the docket are part of docket (CGD13-07-012) and are available for inspection or copying at U.S. Coast Guard Sector Portland, 6767 N. Basin Avenue, Portland, Oregon 97217 between 7 a.m. and 4 p.m., Monday through Friday, except Federal holidays.

FOR FURTHER INFORMATION CONTACT: Petty Officer Lucia Mack, c/o Captain of the Port, Portland, 6767 N. Basin Avenue, Portland, Oregon 97217 (503-240-2590).

SUPPLEMENTARY INFORMATION:

Regulatory Information

We did not publish a notice of proposed rulemaking (NPRM) for this regulation. Under 5 U.S.C. 553(b)(B), the Coast Guard finds that good cause exists for not publishing an NPRM. If normal notice and comment procedures were followed, this rule would not become effective until after the date of the event. Publishing an NPRM would be contrary to the public interest because immediate action is necessary to ensure the safety of vessels and spectators gathering in the vicinity of the fireworks launching barge.

Background and Purpose

The Coast Guard is establishing a temporary safety zone to protect against the hazards associated with a fireworks display. This event occurs on the Siuslaw River in Florence, Oregon and is scheduled to start at 10 p.m. and end at approximately 10:15 p.m. on May 9, 2007. This event may result in a number of vessels congregating near the fireworks launching site. The safety zone is needed to protect watercraft and their occupants from safety hazards associated with fireworks displays.

Discussion of Rule

This rule establishes a safety zone to protect vessels and individuals from the hazards associated with a fireworks display. The safety zone will be located on the waters of the Siuslaw River in Florence, Oregon, encompassed by lines connecting the following points, beginning at 43°28′20″ N/124°04′46″ W, thence to 43°25′07″ N/124°04′40″ W, thence to 43°57′48″ N/124°05′54″ W, thence to 43°28′05″ N/124°05′54″ W, thence to the beginning point. This safety zone will commence prior to the launching of the fireworks in order to clear boaters out of the area for their own protection, and will last longer than the scheduled event time in case the fireworks display lasts longer than anticipated.

Entry into this zone is prohibited unless authorized by the Captain of the Port, Portland, or his designated representative. The safety zone will be enforced by representatives of the Captain of the Port, Portland, who may be assisted by other Federal, State, and local agencies.

Regulatory Evaluation

This rule is not a “significant regulatory action” under section 3(f) of Executive Order 12866, Regulatory Planning and Review, and does not require an assessment of potential costs and benefits under section 6(a)(3) of that Order. The Office of Management and Budget has not reviewed it under that Order. The rule is not significant because the safety zone will encompass a small portion of the river for a short duration when the vessel traffic is low.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The owners or operators of vessels intending to transit or anchor in the affected portion of the Siuslaw River from 8:30 p.m. to 11:30 p.m. on May 9, 2007. This safety zone will not have a significant economic impact on a substantial number of small entities for the following reasons. This rule will be in effect for only 3 hours late in the day when vessel traffic is low. Although the safety zone will apply to the entire width of the river, traffic will be allowed to pass through the zone with the permission of the Captain of the Port, or his designated representatives on scene, if it is safe to do so. Before the effective period, the Coast Guard will issue maritime advisories widely available to users of the river.

Assistance for Small Entities

Under section 213(a) of the Small Business Regulatory Enforcement Fairness Act of 1996 (Pub. L. 104-121), we want to assist small entities in understanding the rule so that they can better evaluate its effects on them and participate in the rulemaking process. If the rule will affect your small business, organization, or governmental jurisdiction and you have questions concerning its provisions or options for compliance, please contact the person listed in the FOR FURTHER INFORMATION CONTACT section.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (34)(g), of the Instruction, from further environmental documentation because it establishes a safety zone. A final “Environmental Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6 and 160.5; Pub. L. 107-295, 116 Stat. 2064; Department of Homeland Security Delegation No. 0170.1.

2. Add temporary § 165.T13-008 to read as follows:

§ 165.T13-008 Safety Zone; Florence Rhodie Days Fireworks Display, Siuslaw River, Florence, Oregon.

(a) Location. The following area is a safety zone: the waters of the Siuslaw River in Florence, Oregon, from surface to bottom, encompassed by the lines connecting the following points, beginning at 43°28′20″ N/124°04′46″ W, thence to 43°25′07″ N/124°04′40″ W, thence to 43°57′48″ N/124°05′54″ W, thence to 43°28′05″ N/124°05′54″ W, thence to the beginning point.

(b) Regulations. (1) In accordance with the general regulations in Section 165.23 of this part, no person or vessel may enter or remain in this zone unless authorized by the Captain of the Port, Portland or his designated representatives.

(2) Designated representative means Coast Guard Patrol Commanders, including Coast Guard coxswains, petty officers or other officers operating Coast Guard vessels and Federal, State, and local officers designated by or assisting the Captain of the Port, Portland in the enforcement of the safety zone.

(c) Enforcement Period. This regulation will be enforced from 8:30 p.m. until 11:30 p.m. (PDT) on May 9, 2007.

Dated: March 21, 2007.
Patrick G. Gerrity,
Captain, U.S. Coast Guard, Captain of the Port.

[FR Doc. E7-6145 Filed 4-3-07; 8:45 am]

BILLING CODE 4910-15-P